DEPARTMENT OF THE TREASURY

Agency Information Collection Activities; Submission for OMB Review; Comment Request; Opinion Letter Applications for Pre-Approved Plans

AGENCY: Departmental Offices, Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments must be received on or before May 9, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

1. Title: Opinion Letter Applications for Pre-Approved Plans.

OMB Control Number: 1545-0169.

Type of Review: Revision of a currently approved collection.

Description: The IRS uses these forms to determine whether the provider or mass submitter of a pre-approved defined contribution plan qualifies under section 401(a) of the Internal Revenue Code for plan approval. The application is also used to apply for approval of their employee benefit plans of standardized or nonstandardized pre-approved plans under section 403(b) and their related trust as exempt from Federal income tax under Code section 501(a).

Form Number: IRS Forms 4461, 4461-A, 4461-B, 4461-C and Attachments.

Affected Public: Businesses or other for-profit organizations.

Estimated Number of Respondents: 2,925.

Frequency of Response: On Occasion.

Estimated Total Number of Annual Responses: 2,925.

Estimated Time per Response: 9 hours up to 58 hours.

Estimated Total Annual Burden Hours: 39,153.

Authority: 44 U.S.C. 3501 et seq.

Molly Stasko,
Treasury PRA Clearance Officer.

[FR Doc. 2022-07483 Filed 4-7-22; 8:45 am]

BILLING CODE 4830-01-P